Proclamation 10565 of April 28, 2023

Older Americans Month, 2023

By the President of the United States of America

A Proclamation

On this 60th anniversary of Older Americans Month, we honor our Nation's senior citizens, whose lifetimes of hard work, devotion to family, and commitment to community have laid the foundation for the country we are today. We have a rock-solid responsibility to ensure our Nation's seniors can age with dignity and financial security.

When President John F. Kennedy issued the first proclamation recognizing older Americans, approximately a third of seniors lived in poverty, and close to half were without health insurance. Our Nation rallied together to confront this crisis, passing Medicare to deliver affordable, quality health care to our seniors; strengthening Social Security, the bedrock of American retirement; and ultimately raising so many seniors out of poverty. We extended lifespans and provided critical breathing room to Americans who had worked hard their whole lives. But there is still more work to do to ensure that no senior lies in bed at night wondering how they are going to pay for lifesaving drugs, put food on the table, or support their children and grandchildren.

That is one reason why I signed the Inflation Reduction Act. For those on Medicare, this law caps the cost of insulin at $35 per month and will cap out-of-pocket prescription drug costs at $2,000 per year. That means seniors could save upwards of tens of thousands of dollars on lifesaving drugs—including for cancer, heart disease, Alzheimer's, and more. It also means Americans can get vaccinated for free against shingles, whooping cough, tetanus, and other diseases. And by holding drug companies responsible when they increase prices faster than inflation and finally allowing Medicare to negotiate drug prices, this law is helping bring down prescription drug costs for seniors across our country. Affordable health care is about basic dignity, which is also why I issued an Executive Order calling on the Food and Drug Administration to make hearing aids available over the counter without a prescription. Now, millions of adults with mild-to-moderate hearing loss can save as much as $3,000 per pair by buying hearing aids at a store or online without a prescription.

At the same time, standing by our seniors means honoring our Nation's fundamental promise that when it comes time to retire after working hard and contributing to our economy, Social Security and Medicare will be there for you. I am committed to defending these vital programs—a lifeline for millions of seniors—which is why my newest Budget extends the life of the Medicare Trust Fund by at least 25 years. And I will veto any effort to deny older Americans the benefits they have earned.

We must keep building on this progress. Older Americans should be able to live, work, and participate in their communities with dignity. That's why I recently signed an Executive Order on Increasing Access to High-Quality Care and Supporting Caregivers. I call on the Congress to expand on the investments we have already made to help seniors receive care in their own homes and to support family caregivers—including aging caregivers—and the home care workers who perform selfless work every day. I also call on the Congress to expand access to nutrition counseling for seniors and others with Medicare coverage, to increase funding for nutrition services for older adults, and to pilot coverage of medically tailored meals in Medicare—actions that are also part of my Administration's National Strategy on Hunger, Nutrition, and Health. We need to improve the quality and safety of nursing homes and protect vulnerable residents and the health care heroes who care for them. And we must keep pushing to end cancer as we know it and win the fight against other deadly diseases that deny us time with those we love most.

Older Americans are the pillars of our community, and we owe it to them to value their wisdom, celebrate their contributions, and champion their well-being. To older Americans across this Nation, we will always support you.

NOW, THEREFORE, I, JOSEPH R. BIDEN JR., President of the United States of America, by virtue of the authority vested in me by the Constitution and the laws of the United States, do hereby proclaim May 2023 as Older Americans Month. This month and beyond, I call upon all Americans to celebrate older adults for their contributions, support their independence, and recognize their unparalleled value to our Nation.

IN WITNESS WHEREOF, I have hereunto set my hand this twenty-eighth day of April, in the year of our Lord two thousand twenty-three, and of the Independence of the United States of America the two hundred and forty-seventh.

[FR Doc. 2023-09537

Filed 5-2-23; 8:45 am]

Billing code 3395-F3-P